ENVIRONMENTAL PROTECTION AGENCY

[Regional Docket No. II-2016-02; FRL-9958-76-Region 2]

Petition for Objection to State Operating Permit; NY; Seneca Energy II, LLC

AGENCY: Environmental Protection Agency (EPA).

ACTION: Notice of final action.

SUMMARY: Pursuant to Clean Air Act (CAA) section 505(b)(2) and Agency regulations, the Environmental Protection Agency (EPA) Administrator signed an Order, dated December 9, 2016, denying a petition filed by the Concerned Citizens of Seneca County, Inc. (September 9, 2013) asking the EPA to object to the Title V operating permit issued by the New York State Department of Environmental Conservation (DEC) to Seneca Energy II, LLC for the Seneca Energy Landfill Gas-to-Energy facility (Energy Facility) located in Seneca Falls, Seneca County, New York; (Permit No. 8-4532-00075-00029). Sections 307(b) and 505(b)(2) of the CAA provide that the petitioner may ask for judicial review by the United States Court of Appeals for the appropriate circuit of those portions of the Order that deny objections raised in the petition.

DATES: Any such petition for review of this Order must be received by July 10, 2017 pursuant to section 307(b) of the CAA.

ADDRESSES: You may review copies of the final Order, the petition, and other supporting information during normal business hours at EPA Region 2, 290 Broadway, New York, New York. If you wish to examine these documents, you should make an appointment at least 24 hours before the visiting day. Additionally, the final Order is available electronically at: https://www.epa.gov/sites/production/files/2016-12/documents/seneca_meadows_response2013_0.pdf.

FOR FURTHER INFORMATION CONTACT: Suilin Chan, Chief, Permitting Section, Air Programs Branch, Clean Air and Sustainability Division, EPA, Region 2, 290 Broadway, 25th Floor, New York, New York 10007, telephone (212) 637-4019, email address: chan.suilin@epa.gov.

SUPPLEMENTARY INFORMATION: The CAA affords the EPA a 45-day period to review, and object to, as appropriate, a Title V operating permit proposed by a state permitting authority. Section 505(b)(2) of the CAA authorizes any person to petition the EPA Administrator, within 60 days after the expiration of this review period, to object to a Title V operating permit if the EPA has not done so. Petitions must be based only on objections to the permit that were raised with reasonable specificity during the public comment period provided by the state, unless the petitioner demonstrates that it was impracticable to raise these issues during the comment period or that the grounds for the objection or other issues arose after this period. The claims are described in detail in Section IV of the Order. In summary, the issues raised are that: (1) The Seneca Meadows Landfill and the Energy Facility together constitute a single major stationary source of emissions; and (2) the Energy Facility's Title V permit is a “sham permit.” The EPA's rationale for denying the claims raised in the petition are described in the Order.

Dated: March 15, 2017.
Catherine R. McCabe,
Acting Regional Administrator, Region 2.

[FR Doc. 2017-09509 Filed 5-10-17; 8:45 am]

BILLING CODE 6560-50-P